DEPARTMENT OF HEALTH AND HUMAN SERVICES

Health Resources and Services Administration

National Vaccine Injury Compensation Program List of Petitions Received

AGENCY: Health Resources and Services Administration, HHS.

ACTION: Notice.

SUMMARY: The Health Resources and Services Administration (HRSA) is publishing this notice of petitions received under the National Vaccine Injury Compensation Program (“the Program”), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place, NW., Washington, DC 20005, (202) 357-6400. For information on HRSA(s role in the Program, contact the Director, National Vaccine Injury Compensation Program, 5600 Fishers Lane, Room 11C-26, Rockville, MD 20857; (301) 443-6593.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated his responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at Section 2114 of the PHS Act or as set forth at 42 CFR 100.3, as applicable. This Table lists for each covered childhood vaccine the conditions which may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that the Secretary publish in the Federal Register a notice of each petition filed. Set forth below is a list of petitions received by HRSA on April 1, 2007, through December 31, 2007.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Table but which was caused by” one of the vaccines referred to in the Table, or

(b) “Sustained, or had significantly aggravated, any illness, disability, injury, or condition set forth in the Vaccine Injury Table the first symptom or manifestation of the onset or significant aggravation of which did not occur within the time period set forth in the Table but which was caused by a vaccine” referred to in the Table.

This notice will also serve as the special master's invitation to all interested persons to submit written information relevant to the issues described above in the case of the petitions listed below. Any person choosing to do so should file an original and three (3) copies of the information with the Clerk of the U.S. Court of Federal Claims at the address listed above (under the heading “For Further Information Contact”), with a copy to HRSA addressed to Director, Division of Vaccine Injury Compensation Program, Healthcare Systems Bureau, 5600 Fishers Lane, Room 11C-26, Rockville, MD 20857. The Court's caption (Petitioner's Name v. Secretary of Health and Human Services) and the docket number assigned to the petition should be used as the caption for the written submission. Chapter 35 of title 44, United States Code, related to paperwork reduction, does not apply to information required for purposes of carrying out the Program.

List of Petitions

1. Annie Jackson, Gary, Indiana, Court of Federal Claims Number 07-0217V.

2. Mildred Free Corun, Murphy, North Carolina, Court of Federal Claims Number 07-0219V.

3. Amy and Joel Cochran on behalf of Elbrywn Cochran, Scott Air Force Base, Illinois, Court of Federal Claims Number 07-0221V.

4. Christine Sharlike on behalf of Megan Sharlike. Westerville, Ohio, Court of Federal Claims Number 07-0229V.

5. Kristy Paulsen and Shannon Berhorst on behalf of Landon Michael Lee Berhorst, Deceased, Monticello, Missouri, Court of Federal Claims Number 07-0233V

6. Nancey Cost on behalf of Jason Cost, Gastonia, North Carolina, Court of Federal Claims Number 07-0234V.

7. Mr. and Mrs. Peter Wynne Wilcox, Jr. on behalf of Marshall Wilcox, Macon, Georgia, Court of Federal Claims Number 07-0238V.

8. Renee Meyer, Colorado Springs, Colorado, Court of Federal Claims Number 07-0241V.

9. Karen Doyle, Springfield, Missouri, Court of Federal Claims Number 07-0242V.

10. Barbara and Robert Curtis on behalf of Robert Curtis, Wilmington, Ohio, Court of Federal Claims Number 07-0244V.

11. Sherry Lee Tam, Wailuka, Hawaii, Court of Federal Claims Number 07-0251V.

12. Kristina Miller and Yvonne and William McElvey on behalf of Aulburn Burgess, Naples, Florida, Court of Federal Claims Number 07-0258V.

13. Mariana Ruvalcaba on behalf of Ian Arias, El Paso, Texas, Court of Federal Claims Number 07-0259V.

14. Christina Caruno, Easton, Pennsylvania, Court of Federal Claims Number 07-0260V.

15. John Stavridis on behalf of William Stavridis, Columbus, Ohio, Court of Federal Claims Number 07-0261V.

16. Vanessa Hollingsworth on behalf of Nicholas Czaban, Lake City, Florida, Court of Federal Claims Number 07-0262V.

17. Rachel and Ryan Hellewell on behalf of Porter O'Ryan Hellewell, Cedar Falls, Iowa, Court of Federal Claims Number 07-0268V.

18. Alissa and Derren Burse on behalf of Derren Josiah Burse, Marietta, Georgia, Court of Federal Claims Number 07-0269V.

19. Amy Rocha, Boston, Massachusetts, Court of Federal Claims Number 07-0275V.

20. Karon Merrill, Reno, Nevada, Court of Federal Claims Number 07-0278V.

21. Matthew and Justin Wiechart on behalf of Keith Wiechart, Cape Coral, Florida, Court of Federal Claims Number 07-0283V.

22. Izzy Tahil on behalf of Lucy Garcia, New York, New York, Court of Federal Claims Number 07-0286V.

23. Michael H. Sleeper, Jr., Great Lakes, Illinois, Court of Federal Claims Number 07-0288V.

24. Beth Sherman on behalf of Justin Sherman, Industry, Pennsylvania, Court of Federal Claims Number 07-0289V.

25. Tammy L. Edwards-Goza, Washington, Missouri, Court of Federal Claims Number 07-0290V.

26. Cory Smaltz, Beaufort, South Carolina, Court of Federal Claims Number 07-0293V.

27. Helen Zaloudek, Bradenton, Florida, Court of Federal Claims Number 07-0294V.

28. Jeana Harris, Naples, Florida, Court of Federal Claims Number 07-0295V.

29. Shahema and Balmoukound Jai Jai Ram on behalf of Luke Jai Jai Ram, Hollywood, Florida, Court of Federal Claims Number 07-0296V.

30. Julie Rishel on behalf of Chase Thomas Rishel, Philadelphia, Pennsylvania, Court of Federal Claims Number 07-0297V.

31. Shauntae Mendoza and Pedro Quiles on behalf of Marcus Quiles, Tooele, Utah, Court of Federal Claims Number 07-0298V.

32. Miriam Mashiah on behalf of Ravi Mashiah, Philadelphia, Pennsylvania, Court of Federal Claims Number 07-0300V.

33. Joanne and Wayne Bardowell on behalf of Wayne Bardowell, Jackson, New Jersey, Court of Federal Claims Number 07-0301V.

34. Patricia Williams and Joseph DiFiglia on behalf of Giana DiFiglia, Deceased, Hackettstown, New Jersey, Court of Federal Claims Number 07-0302V.

35. Beth Pletcher on behalf of Brett Glassberg, Chester, New Jersey, Court of Federal Claims Number 07-0303V.

36. Sheryl Gabrielle, Burlington City, New Jersey, Court of Federal Claims Number 07-0304V.

37. Joanna and Timothy Sarver on behalf of Erica Lynn Sarver, Ames, Iowa, Court of Federal Claims Number 07-0307V.

38. Patricia and Todd Nowak on behalf of Michael Matthew Nowak, Angola, New York, Court of Federal Claims Number 07-0311V.

39. Terry Allen Jones, Lockport, New York, Court of Federal Claims Number 07-0313V.

40. Cynthia Cabalo on behalf of Cierra Cabalo, Honolulu, Hawaii, Court of Federal Claims Number 07-0314V.

41. Rhonda Sango on behalf of Rhonda Sango (nka Rhonda Tubbs), Covington, Kentucky, Court of Federal Claims Number 07-0329V.

42. Dawn and Eric Herrmann on behalf of Wyatt Herrmann, Minneapolis, Minnesota, Court of Federal Claims Number 07-0330V.

43. Tracy D. Cook, La Grande, Oregon, Court of Federal Claims Number 07-0331V.

44. Melinda and Robert Needs on behalf of Jacob Needs, Baltimore, Maryland, Court of Federal Claims Number 07-0332V.

45. Shawna and Mark Patterson on behalf of Kristan Patterson, Baltimore, Maryland, Court of Federal Claims Number 07-0333V.

46. Laura and Stephen Pyburn on behalf of Bailey Pyburn, Baltimore, Maryland, Court of Federal Claims Number 07-0334V.

47. Jim Benham, Stephenville, Texas, Court of Federal Claims Number 07-0339V.

48. Natalie and Duane Schwemlein on behalf of Stephen Schwemlein, Chicago, Illinois, Court of Federal Claims Number 07-0343V.

49. Fred Venerin, Tallahassee, Florida, Court of Federal Claims Number 07-0347V.

50. Susan G. Mollica, Tamworth, New Hampshire, Court of Federal Claims Number 07-0349V.

51. Jude Anna DiPeppo, Fresh Meadows, New York, Court of Federal Claims Number 07-0353V.

52. Julie and Scott Miller on behalf of Landon Miller, Lake Success, New York, Court of Federal Claims Number 07-0354V.

53. Lana and Garrett Kesecker on behalf of Randy Kesecker, Charleston, West Virginia, Court of Federal Claims Number 07-0356V.

54. Jamie Bailey on behalf of Cameron Bailey, Charleston, West Virginia, Court of Federal Claims Number 07-0357V.

55. Jane Doe, Los Angeles, California, Court of Federal Claims Number 07-0360V.

56. Julie and Christopher Neumann on behalf of Maximilian Neumann, Granada Hills, California, Court of Federal Claims Number 07-0362V.

57. Mark Moran, Chicago, Illinois, Court of Federal Claims Number 07-0363V.

58. Karen Ann and Richard George Harbin on behalf of Ryka Nicole Harbin, Deceased, Gurley, Alabama, Court of Federal Claims Number 07-0364V.

59. Channon and Andrew Coffey on behalf of Parker Shane Coffey, Ft. Lauderdale, Florida, Court of Federal Claims Number 07-0368V.

60. Tomoka Finkle, Thousand Oaks, California, Court of Federal Claims Number 07-0370V.

61. Julie and Keneth Peber on behalf of Kyle Peber, Glasco, New York, Court of Federal Claims Number 07-0371V.

62. Stephen Torday, M.D., Fountain Valley, California, Court of Federal Claims Number 07-0372V.

63. Mary and David Troutman on behalf of David Troutman, Jr., Chicago, Illinois, Court of Federal Claims Number 07-0373V.

64. Yluminada Mojica and Julio Acevedo on behalf of Joshua Acevedo, Glen Rock, New Jersey, Court of Federal Claims Number 07-0376V.

65. Lori Brunton, Plano, Texas, Court of Federal Claims Number 07-0380V.

66. Kristin and Chad Howard on behalf of Ashleigh Howard, Overland Park, Kansas, Court of Federal Claims Number 07-0383V.

67. Nikki L'Heureux, Torrance, California, Court of Federal Claims Number 07-0384V.

68. Rebecca Paterno on behalf of Ryan Paterno, Wall, New Jersey, Court of Federal Claims Number 07-0386V.

69. Rudolfe DuBois, Providence, Rhode Island, Court of Federal Claims Number 07-0387V.

70. Holly Courville on behalf of Ayden Courville, Eunice, Louisiana, Court of Federal Claims Number 07-0388V.

71. Lisa and Jonathan Holderfield on behalf of Kali Holderfield, Asheville, North Carolina, Court of Federal Claims Number 07-0389V.

72. Verna M. Lisa and Jay Schmehl on behalf of Jayson Louis Schmehl, Philadelphia, Pennsylvania, Court of Federal Claims Number 07-0397V.

73. Rodney Allen Traylor, Norfolk, Virginia, Court of Federal Claims Number 07-0398V.

74. T. Marlene Stapleton, Wichita, Kansas, Court of Federal Claims Number 07-0399V.

75. Richard Janssen, Jr., on behalf of William Jacob Janssen, Missoula, Montana, Court of Federal Claims Number 07-0401V.

76. Julieanne and Ryan Atwell on behalf of Trevor Atwell, Easton, Maryland, Court of Federal Claims Number 07-0402V.

77. Eileen Crafts, Conway, New Hampshire, Court of Federal Claims Number 07-0403V.

78. Sarah Jane and James Mansour on behalf of Madison Elizabeth Mansour, Houston, Texas, Court of Federal Claims Number 07-0406V.

79. Anthony D. Lazzeri on behalf of Anthony J. Lazzeri, Boca Raton, Florida, Court of Federal Claims Number 07-0408V.

80. Glenda Kennedy, Tyler, Texas, Court of Federal Claims Number 07-0410V.

81. Toni Hogenmiller on behalf of Summer Hogenmiller, Williamsville, New York, Court of Federal Claims Number 07-0411V.

82. Joseph Basel, Mankato, Minnesota, Court of Federal Claims Number 07-0412V.

83. Holly Palm on behalf of Preston Palm, Banner Elk, North Carolina, Court of Federal Claims Number 07-0413V.

84. Kathallene and David Holtzman on behalf of Alex Holtzman, Centreville, Maryland, Court of Federal Claims Number 07-0414V.

85. Ann M. Isabel, Mentor, Ohio, Court of Federal Claims Number 07-0415V.

86. Richard Cuppler, Navesink, New Jersey, Court of Federal Claims Number 07-0416V.

87. James Landi, Falls Church, Virginia, Court of Federal Claims Number 07-0417V.

88. Ruby Thurston, Eureka, California, Court of Federal Claims Number 07-0418V.

89. Rex Ruiz, M.D., Centreville, Virginia, Court of Federal Claims Number 07-0419V.

90. Maria Caldwell on behalf of Brooklynne Del Carmen-Mariah Caldwell, Deceased, Philadelphia, Pennsylvania, Court of Federal Claims Number 07-0420V.

91. Lisa Crain on behalf of Leila Crain, Birmingham, Alabama, Court of Federal Claims Number 07-0421V.

92. Kerry D. Young, Ft. Benning, Oklahoma, Court of Federal Claims Number 07-0422V.

93. Adelle Boegershausen, San Rafael, California, Court of Federal Claims Number 07-0423V.

94. Richard Smith, Seminole, Florida, Court of Federal Claims Number 07-0424V.

95. Vera Ray on behalf of Teresa Ray, Greenwood, Mississippi, Court of Federal Claims Number 07-0427V.

96. Patricia Sanders Young on behalf of Devonte Young, Jackson, Mississippi, Court of Federal Claims Number 07-0428V.

97. Pearlie King on behalf of Veronica Jones, Bolivar County, Mississippi, Court of Federal Claims Number 07-0429V.

98. Sheila Watson on behalf of Shenquency Gowdy, Jackson, Mississippi, Court of Federal Claims Number 07-0430V.

99. Brenda McMurtry on behalf of Kenny Billingslea, Canton, Mississippi, Court of Federal Claims Number 07-0431V.

100. Arlisha Ross on behalf of Sarabian Ross, Jackson, Mississippi, Court of Federal Claims Number 07-0432V.

101. Annette Rzewuski on behalf of Adrian Rzewuski, Chicago, Illinois, Court of Federal Claims Number 07-0433V.

102. Kimberly and Thomas Billcliff on behalf of Kaden Billcliff, Atkinson, New Hampshire, Court of Federal Claims Number 07-0435V.

103. Nicole Benson, Gillette, Wyoming, Court of Federal Claims Number 07-0436V.

104. Debra Williams on behalf of Ashley Erin Williams, Chicago, Illinois, Court of Federal Claims Number 07-0437V.

105. Julia Schnardthorst, McKinney, Texas, Court of Federal Claims Number 07-0438V.

106. Theo A. Jones, Fort Sam Houston, Texas, Court of Federal Claims Number 07-0439V.

107. Jeanette Adler, Paramus, New Jersey, Court of Federal Claims Number 07-0440V.

108. Barbara Turner Roderick, San Francisco, California, Court of Federal Claims Number 07-0441V.

109. Ronald Cyrulnik, Long Beach, California, Court of Federal Claims Number 07-0442V.

110. Joan Caves, Okeechobee, Florida, Court of Federal Claims Number 07-0443V.

111. Richard Renza, Swainton, New Jersey, Court of Federal Claims Number 07-0444V.

112. Stanley Wheatley, Du Quoin, Illinois, Court of Federal Claims Number 07-0445V.

113. Jennifer Hibbard, Quincy, Massachusetts, Court of Federal Claims Number 07-0446V.

114. Tara Hannebaum, Arvada, Colorado, Court of Federal Claims Number 07-0447V.

115. Beverly Harwell, McKenzie, Tennessee, Court of Federal Claims Number 07-0448V.

116. Patrick Harris, Garden Plain, Kansas, Court of Federal Claims Number 07-0449V.

117. Sandra Dwares, Etna, Ohio, Court of Federal Claims Number 07-0450V.

118. Marilyn Davis, Hoisington, Kansas, Court of Federal Claims Number 07-0451V.

119. Debra Chuisano on behalf of Frances D'Esposito, Deceased, Babylon, New York, Court of Federal Claims Number 07-0452V.

120. Mary Browning on behalf of Colin Brynildson, Atlanta, Georgia, Court of Federal Claims Number 07-0453V.

121. John Bell, Mercer Island, Washington, Court of Federal Claims Number 07-0454V.

122. Nancy Fredrickson, Lakeville, Minnesota, Court of Federal Claims Number 07-0455V.

123. William Connor, Papillion, Nebraska, Court of Federal Claims Number 07-0456V.

124. Christine Lee, Lancaster, California, Court of Federal Claims Number 07-0457V.

125. John Taylor, Stuart, Nebraska, Court of Federal Claims Number 07-0458V.

126. Carolyn Holliday, Athens, Georgia, Court of Federal Claims Number 07-0459V.

127. Patrica Ann and David Gerwig on behalf of David Gerwig, New York, New York, Court of Federal Claims Number 07-0460V.

128. Bonnie Jean Olson, Serry, New York, Court of Federal Claims Number 07-0461V.

129. Thurman Daniels, Tobyhanna, Pennsylvania, Court of Federal Claims Number 07-0462V.

130. Dawn and Dennis Hoekstra on behalf of Dawn Hoekstra, DeSoto, Missouri, Court of Federal Claims Number 07-0463V.

131. Kathleen and Jacque Coble on behalf of Kathleen Coble, New York, New York, Court of Federal Claims Number 07-0464V.

132. Frances and Leonard Campbell on behalf of Frances Campbell, Johannesburg, Michigan, Court of Federal Claims Number 07-0465V.

133. Patricia Hill, West Branch, Michigan, Court of Federal Claims Number 07-0469V.

134. Christine Demetri, Fairfield, Connecticut, Court of Federal Claims Number 07-0470V.

135. Luann Parker, Cincinnati, Ohio, Court of Federal Claims Number 07-0471V.

136. Andrea Hodges, New Horizon Vacaville, California, Court of Federal Claims Number 07-0472V.

137. Marie Luna, La Jolla, California, Court of Federal Claims Number 07-0473V.

138. Lois and Robert Weinewuth on behalf of Lois Weinewuth, Cincinnati, Ohio, Court of Federal Claims Number 07-0474V.

139. Kaye Thornton, Fort Worth, Texas, Court of Federal Claims Number 07-0475V.

140. W.J. McCool on behalf of Opal McCool, Deceased, Williamsburg, Virginia, Court of Federal Claims Number 07-0476V.

141. Camellia and Brad Kidd on behalf of Brad Kidd, Cheyenne, Wyoming, Court of Federal Claims Number 07-0477V.

142. Diane and John Heckenberg on behalf of Diane Heckenberg, Daly City, California, Court of Federal Claims Number 07-0478V.

143. Magda and Jose Paredes on behalf of Jessica Paredes, Morristown, New Jersey, Court of Federal Claims Number 07-0479V.

144. Josephine Ami, Phoenix, Arizona, Court of Federal Claims Number 07-0480V.

145. Vanessa Smith on behalf of Elisha Snell, Jamaica, New York, Court of Federal Claims Number 07-0481V.

146. Elsa and Jorge Alberto Carcamo on behalf of Jorge Alberto Carcamo, Simi Valley, California, Court of Federal Claims Number 07-0483V.

147. Dawn and Shane Smith on behalf of Jeanna Smith, Monroe, Washington, Court of Federal Claims Number 07-0484V.

148. Dawn and Shane Smith on behalf of Deagan Smith, Sultan, Washington, Court of Federal Claims Number 07-0485V.

149. Elizabeth Hunt on behalf of Anthony Alva, Chicago, Illinois, Court of Federal Claims Number 07-0486V.

150. Shelly Revis on behalf of Thiara Revis, Longview, Washington, Court of Federal Claims Number 07-0487V.

151. Mary Lou Pittman, Lansing, Michigan, Court of Federal Claims Number 07-0488V.

152. Sally Sigal on behalf of Eli Sigal, Deceased, Palm Desert, California, Court of Federal Claims Number 07-0489V.

153. James W. “Woody” Thompson, Monroe, Louisiana, Court of Federal Claims Number 07-0490V.

154. Maria and Alan Janik on behalf of Joshua Janik, Chicago, Illinois, Court of Federal Claims Number 07-0496V.

155. Dominiana and Howard McLaughlin on behalf of Aaron Agripino McLaughlin, Riverside, California, Court of Federal Claims Number 07-0497V.

156. Mary and David Troutman on behalf of Terance Troutman, Chicago, Illinois, Court of Federal Claims Number 07-0498V.

157. Maria and Alan Janik on behalf of Nathan Janik, Chicago, Illinois, Court of Federal Claims Number 07-0499V.

158. Yluminada Mojica and Julio Acevedo on behalf of Joshua Acevedo, Elizabeth, New Jersey, Court of Federal Claims Number 07-0501V.

159. Hanan Ayoub and Ahmed Fadil on behalf of Foad Fadil, Houston, Texas, Court of Federal Claims Number 07-0502V.

160. Marta Pagan, San German, Puerto Rico, Court of Federal Claims Number 07-0504V.

161. Catherine and Steven Jameson on behalf of William Romulo Jameson, Whispering Pines, North Carolina, Court of Federal Claims Number 07-0506V.

162. Xi Ling on behalf of Daniel Lee, Edina, Minnesota, Court of Federal Claims Number 07-0507V.

163. Trina Eichorn, Osceola, Arkansas, Court of Federal Claims Number 07-0508V.

164. Alta Widvey on behalf of Merle Widvey, Shirley, Indiana, Court of Federal Claims Number 07-0509V.

165. Francess Bendu on behalf of Francis Bendu, Jr., Hyattsville, Maryland, Court of Federal Claims Number 07-0510V.

166. Kelly Gelzheiser, Pittsburgh, Pennsylvania, Court of Federal Claims Number 07-0511V.

167. Mirna Ortiz on behalf of Jordan Ortiz, Passaic, New Jersey, Court of Federal Claims Number 07-0515V.

168. Kelly and James Carmody on behalf of Dylan Carmody, Asheville, North Carolina, Court of Federal Claims Number 07-0521V.

169. Lisa Sue McDonaugh, Redlands, California, Court of Federal Claims Number 07-0527V.

170. Dana and Robert Napoleon on behalf of Keanu Robert Napoleon, Puyallup, Washington, Court of Federal Claims Number 07-0528V.

171. Matt Miller on behalf of Justine Miller, Rochester, New York, Court of Federal Claims Number 07-0530V.

172. Chiquita Thompson on behalf of Justin Thompson, Atlanta, Georgia, Court of Federal Claims Number 07-0531V.

173. Elaine Matthews on behalf of Samuel Matthews, III, Euclid, Ohio, Court of Federal Claims Number 07-0533V.

174. Christine Catchick on behalf of Caden Catchick, Royal Oak, Michigan, Court of Federal Claims Number 07-0534V.

175. Kathallene and David Holtzman on behalf of Justin Holtzman, Centreville, Maryland, Court of Federal Claims Number 07-0535V.

176. Tammy and Brian Beasley on behalf of Dakota Beasley, Fort Myers, Florida, Court of Federal Claims Number 07-0536V.

177. Jessica Hedrick on behalf of Cameron Hedrick, McConnell AFB, Kansas, Court of Federal Claims Number 07-0539V.

178. Denisha Jones on behalf of Daylen Jones, Kansas City, Missouri, Court of Federal Claims Number 07-0549V.

179. Rebecca and Michael Wilkins on behalf of Brandon Wilkins, Chicago, Illinois, Court of Federal Claims Number 07-0550V.

180. Troy Amar Story, Sr. on behalf of Troy Amar Story, Jr., Chattanooga, Tennessee, Court of Federal Claims Number 07-0551V.

181. Nancy Angiello and William Gillett on behalf of Sophia-Gabriella Gillett, Hastings on Hudson, New York, Court of Federal Claims Number 07-0552V.

182. Lester Graham, Russellville, Arkansas, Court of Federal Claims Number 07-0553V.

183. Carolyn K. Horne, Sherrills Ford, North Carolina, Court of Federal Claims Number 07-0554V.

184. Jennifer Workman on behalf of Azah-Lynn Renee Hunt, New Smyrna Beach, Florida, Court of Federal Claims Number 07-0557V.

185. Doreen Orsillo on behalf of Maisie Orsillo, Trenton, New Jersey, Court of Federal Claims Number 07-0559V.

186. Doreen Orsillo on behalf of Grace Orsillo, Trenton, New Jersey, Court of Federal Claims Number 07-0560V.

187. Jennifer Spokas on behalf of Russell Spokas, Philadelphia, Pennsylvania, Court of Federal Claims Number 07-0563V.

188. Jana and Travis Lively on behalf of Austin Lively, College Station, Texas, Court of Federal Claims Number 07-0565V.

189. Kara Hallenbeck on behalf of Wesley Ellis, San Ramon, California, Court of Federal Claims Number 07-0566V.

190. Miguel Calderon on behalf of Cameron Calderon and Max Calderon, Santa Rosa, California, Court of Federal Claims Number 07-0567V.

191. Joann Wagstaff on behalf of John Ryan Bolton, Red Oak, Virginia, Court of Federal Claims Number 07-0568V.

192. Numan and Samerh Khalil on behalf of Mehdi N. Khalil, Union City, New Jersey, Court of Federal Claims Number 07-0570V.

193. Michelle and Lance Moretto on behalf of Anthony Moretto, Ramsey, Minnesota, Court of Federal Claims Number 07-0571V.

194. Theresa Brown on behalf of Dylan Isenhart, Akron, Ohio, Court of Federal Claims Number 07-0572V.

195. Elaine Matthews on behalf of Emanuel Matthews, Euclid, Ohio, Court of Federal Claims Number 07-0573V.

196. Tahir Young on behalf of Ahmad Young, Irvington, New Jersey, Court of Federal Claims Number 07-0574V.

197. Diane Rose on behalf of Chelsea Rose, Lenoir, North Carolina, Court of Federal Claims Number 07-0575V.

198. Dmitria Robidoux on behalf of Dominic Robidoux, Los Angeles, California, Court of Federal Claims Number 07-0576V.

199. Tasha and Joshua Ancheta-DeMello on behalf of Keli'ana Ancheta-DeMello, Kamuela, Hawaii, Court of Federal Claims Number 07-0580V.

200. Valerie and Stefan Shubert on behalf of Connor R. Shubert, St. Augustine, Florida, Court of Federal Claims Number 07-0583V.

201. Lisa and Robert Jones on behalf of Hannah Jones, Chicago, Illinois, Court of Federal Claims Number 07-0584V.

202. Vijendra and Sunita Mohan on behalf of Sonya Mohan, New Albany, Ohio, Court of Federal Claims Number 07-0585V.

203. Nicole Krieger on behalf of Jared Jayden Rex Roe, Denver, Colorado, Court of Federal Claims Number 07-0586V.

204. Christopher Coale, Angleton, Texas, Court of Federal Claims Number 07-0590V.

205. Miguel Calderon on behalf of Cameron Calderon, Fontana, California, Court of Federal Claims Number 07-0595V.

206. Miguel Calderon on behalf of Max Calderon, Santa Rosa, California, Court of Federal Claims Number 07-0596V.

207. James Smith, Wichita, Kansas, Court of Federal Claims Number 07-0602V.

208. Tracy and Stuart Spern on behalf of Joshua Spern, Hamilton, New Jersey, Court of Federal Claims Number 07-0603V.

209. Fatma Neslihan Kreher on behalf of Neshe Kreher, Tampa, Florida, Court of Federal Claims Number 07-0604V.

210. Nancy Barclay on behalf of Matthew Ramirez, Miami, Florida, Court of Federal Claims Number 07-0605V.

211. Jennifer and Jorge Ocana on behalf of Christian Ocana, Ladera Ranch, California, Court of Federal Claims Number 07-0607V.

212. Tonya Dixon on behalf of Jarius Wheaton, Jacksonville, Florida, Court of Federal Claims Number 07-0610V.

213. Kristen Elizabeth and Timothy Mark Giltinan on behalf of Braeden Timothy Giltinan Erie, Colorado, Court of Federal Claims Number 07-0618V.

214. Adriana and Catriel Tulian on behalf of Alejandro Tulian, Philadelphia, Pennsylvania, Court of Federal Claims Number 07-0619V.

215. Adriana and Catriel Tulian on behalf of Gia Tulian, Philadelphia, Pennsylvania, Court of Federal Claims Number 07-0620V.

216. Aurealio Leal and Esthela Rosas Ramirez/Covarrubias on behalf of Freddie Leal Rosas Spartanburg, South Carolina, Court of Federal Claims Number 07-0621V.

217. Bessie and Gary McGarvey on behalf of Bessie McGarvey, Columbus, Ohio, Court of Federal Claims Number 07-0622V

218. Holly and Christopher Wetz on behalf of Matthew Wetz, Riverview, Florida, Court of Federal Claims Number 07-0633V.

219. Dawn Burgess on behalf of Logan Burgess, Los Angeles, California, Court of Federal Claims Number 07-0634V.

220. Bahji Amelia Adams, Smyrna, Georgia, Court of Federal Claims Number 07-0639V.

221. Kate and Matt Dorn on behalf of Ethan Dorn, Menasha, Wisconsin, Court of Federal Claims Number 07-0640V.

222. Heather and Jerry Remien on behalf of Ryan Remien, Glenview, Illinois, Court of Federal Claims Number 07-0642V.

223. Tammy and Clint Quanstrom on behalf of Michael Quanstrom, East Dundee, Illinois, Court of Federal Claims Number 07-0643V.

224. Ruth Moore, Shawnee Mission, Kansas, Court of Federal Claims Number 07-0645V

225. Lola Coughlin, Cincinnati, Ohio, Court of Federal Claims Number 07-0657V.

226. Kimberly and Peter Johnson on behalf of Patrick Johnson, Davis, California, Court of Federal Claims Number 07-0661V.

227. Michelle Besuyen on behalf of Tyler Besuyen, Aloha, Oregon, Court of Federal Claims Number 07-0662V.

228. Kimberly Quillen-Millen, Elkhart, Indiana, Court of Federal Claims Number 07-0666V.

229. Josette Richard on behalf of her minor child, Watertown, Massachusetts, Court of Federal Claims Number 07-0667V.

230. Margaret Khazaal on behalf of Benjamin Khazaal, Victorville, California, Court of Federal Claims Number 07-0669V.

231. Lynda C. Chandler and Vincent D. Capaccio on behalf of V. Valor Capaccio, Harrisonburg, Virginia, Court of Federal Claims Number 07-0670V.

232. Terah and Nicholas Romero on behalf of Nicholas Romero, Jr., San Antonio, Texas, Court of Federal Claims Number 07-0671V.

233. Jamie and George Parisi on behalf of George Bostock Parisi, II, Woodbridge, Virginia, Court of Federal Claims Number 07-0679V.

234. Angela and Mark Pruett on behalf of Paige Pruett, Omaha, Nebraska, Court of Federal Claims Number 07-0681V.

235. Karrie and Jeffrey Adix on behalf of Jesse Adix, Mequon, Wisconsin, Court of Federal Claims Number 07-0683V.

236. Ruth Nancy and David Thornhill on behalf of Blake Anthony Thornhill, Slidell, Louisiana, Court of Federal Claims Number 07-0687V.

237. Jaswant and Manjit Sidhu on behalf of Gurdit Sidhu, Ontario, California, Court of Federal Claims Number 07-0690V.

238. Carol Brandt, Hendersonville, North Carolina, Court of Federal Claims Number 07-0697V.

239. Mary Anne Campbell on behalf of Ryan Campbell, West Islip, New York, Court of Federal Claims Number 07-0701V.

240. Frank Salanitri, Huntington Station, New York, Court of Federal Claims Number 07-0710V.

241. Tyson Hammond on behalf of McKenzie Hammond, Deceased, Grand Forks, North Dakota, Court of Federal Claims Number 07-0716V.

242. Angela and Donald Hunter on behalf of Roman Hunter, Roseville, Michigan, Court of Federal Claims Number 07-0717V.

243. Scott Norstad, Fargo, North Dakota, Court of Federal Claims Number 07-0721V.

244. Mildred Lugo on behalf of Melanie Lugo, Sanford, Florida, Court of Federal Claims Number 07-0722V.

245. Katherine Walker and Helmi Elhadidi on behalf of Adam Elhadidi, Falls Church, Virginia, Court of Federal Claims Number 07-0727V.

246. Elena Kirksey on behalf of Savannah Kirksey, Metairie, Louisiana, Court of Federal Claims Number 07-0733V.

247. Terry and Thomas Biaggi on behalf of Nicholas Yukio Biaggi, Irvington, New York, Court of Federal Claims Number 07-0734V.

248. Julie Tidovsky-James and Fred James on behalf of Ian James, Richmond, Virginia, Court of Federal Claims Number 07-0735V.

249. Khaalidah Knott on behalf of Zaire Knott, Deceased, Newark, New Jersey, Court of Federal Claims Number 07-0736V.

250. Neil Gearin, Medford, Oregon, Court of Federal Claims Number 07-0737V.

251. Janna Neel, New York, New York, Court of Federal Claims Number 07-0745V.

252. David Rosiewicz, New Bedford, Massachusetts, Court of Federal Claims Number 07-0749V.

253. Maryann and Paul Penzi on behalf of Christopher Penzi, Roslyn, New York, Court of Federal Claims Number 07-0750V.

254. Marsha Champagne and Tory Bell on behalf of Stephan H. R. Bell, Deceased, Brooklyn, New York, Court of Federal Claims Number 07-0751V.

255. Ching Tam, Great Lakes, Illinois, Court of Federal Claims Number 07-0752V.

256. Rebecca and Jerime McHerron on behalf of Jack McHerron, Baldwinsville, New York, Court of Federal Claims Number 07-0753V.

257. Jennifer and Mark Krekeler on behalf of Ethan Krekeler, Fairfax, Virginia, Court of Federal Claims Number 07-0758V.

258. Judith Garcia, Houston, Texas, Court of Federal Claims Number 07-0767V.

259. Craig Wallower, New Cumberland, Pennsylvania, Court of Federal Claims Number 07-0772V.

260. Myra Tackett, Prestonburg, Kentucky, Court of Federal Claims Number 07-0781V.

261. Kathleen and David Kubiak on behalf of Darla Rose Kubiak, Fraser, Michigan, Court of Federal Claims Number 07-0783V.

262. Veronica Argueta on behalf of Joshua Argueta, Lynwood, Washington, Court of Federal Claims Number 07-0784V.

263. Kimberly and Daniel Thrasher on behalf of Courtney Thrasher, Deceased, Selma, Alabama, Court of Federal Claims Number 07-0785V.

264. Peter Ramsey, Boston, Massachusetts, Court of Federal Claims Number 07-0786V.

265. Dana and Troy Sturdivant on behalf of Brennan Sturdivant, Madison, Mississippi, Court of Federal Claims Number 07-0788V.

266. Matthew Galloway on behalf of Matthew Roldey Galloway, II, Naples, Florida, Court of Federal Claims Number 07-0792V.

267. Frances L. Gibbs, Salt Lake City, Utah, Court of Federal Claims Number 07-0793V,

268. Josefa Reed on behalf of David Reed, Sterling Heights, Michigan, Court of Federal Claims Number 07-0794V.

269. John Hoogacker on behalf of Travis Hoogacker, New Orleans, Louisiana, Court of Federal Claims Number 07-0795V.

270. Amy Renae Newhouse on behalf of Tyler Newhouse, Richmond, Kentucky, Court of Federal Claims Number 07-0796V.

271. Carol Denise McDaniel and Adegoke Akinsola on behalf of Lindsey Abiola, Akinsola, Deceased, Lake Providence, Louisiana, Court of Federal Claims Number 07-0797V.

272. John Hoogacker on behalf of Trevor Hoogacker, New Orleans, Louisiana, Court of Federal Claims Number 07-0800V.

273. Angie Anderson on behalf of Andreas Pearman, amilla, Georgia, Court of Federal Claims Number 07-0801V.

274. Jessica Engels on behalf of Benjamin Engels, Celebration, Florida, Court of Federal Claims Number 07-0804V.

275. Cherie and Peter Nuttall on behalf of Nathaniel Nuttall, Henderson, Nevada, Court of Federal Claims Number 07-0810V.

276. Vivian and Charles Acquaah on behalf of Tyra Acquaah, Katy, Texas, Court of Federal Claims Number 07-0813V.

277. Kimberly Ann Geer and Richard Roy Russell on behalf of Richard Roy Russell, III, Edgemoor, South Carolina, Court of Federal Claims Number 07-0814V.

278. Joanne and George Stevens on behalf of Samuel Stevens, West Palm Beach, Florida, Court of Federal Claims Number 07-0818V.

279. Joanne and George Stevens on behalf of Anthony Stevens, West Palm Beach, Florida, Court of Federal Claims Number 07-0819V.

280. Vivian and Charles Acquaah on behalf of Stacy Acquaah, Katy, Texas, Court of Federal Claims Number 07-0820V.

281. Christina Balls on behalf of Isaac J. Balls, Bountiful, Utah, Court of Federal Claims Number 07-0821V.

282. Susan Moore, Commack, New York, Court of Federal Claims Number 07-0833V.

283. John McAvoy, Hanscom AFB, Massachusetts, Court of Federal Claims Number 07-0834V.

284. Joshua Beckner on behalf of Joel Beckner, Deceased, Omaha, Nebraska, Court of Federal Claims Number 07-0835V.

285. Juli Harden on behalf of Michael Miles, II, Indianapolis, Indiana, Court of Federal Claims Number 07-0836V.

286. Michaela and Craig Morgan on behalf of Maxwell Morgan, Lake Tahoe, California, Court of Federal Claims Number 07-0853V.

287. Rick Schweitzer on behalf of Jesse Schweitzer, Deceased, Arkadelphia, Arkansas, Court of Federal Claims Number 07-0856V.

288. Laura Conway on behalf of Cassidy Conway, Lansing, Michigan, Court of Federal Claims Number 07-0857V.

289. Nicolle Hurd on behalf of Micah Hurd, Great Falls, Montana, Court of Federal Claims Number 07-0860V.

290. Timothy Do on behalf of William Do, Mansfield, Texas, Court of Federal Claims Number 07-0864V.

291. Susan and Michael Neighbors on behalf of Nicholas Neighbors, Baltimore, Maryland, Court of Federal Claims Number 07-0865V.

292. Michelle Wilkinson, Worcester, Massachusetts, Court of Federal Claims Number 07-0866V.

293. Jeannette Day, Austin, Texas, Court of Federal Claims Number 07-0868V.

294. Anna Bogojevic on behalf of Stevan Bogojevic, Lake Forest, Illinois, Court of Federal Claims Number 07-0869V.

295. Sandra Cassidy on behalf of Daniel Styka, Erie, New York, Court of Federal Claims Number 07-0870V.

296. Leslie and John Petro on behalf of Dominic Petro, Annapolis, Maryland, Court of Federal Claims Number 07-0880V.

297. Linda Gevargis on behalf of Darian Gevargis, Palmdale, California, Court of Federal Claims Number 07-0882V.

298. Brian Dobben on behalf of Levi Dobben, Flossmoor, Illinois, Court of Federal Claims Number 07-0883V.

299. Sandra Kay Hunter on behalf of Kasey Lynn Welch, Lake Park, Georgia, Court of Federal Claims Number 07-0885V.

300. Rhonda and Doug Paluck on behalf of Karl Paluck, Bismarck, North Dakota, Court of Federal Claims Number 07-0889V.

301. Christine and Christopher Wright on behalf of Colin James Wright, Norwalk, Connecticut, Court of Federal Claims Number 07-0890V.

302. Roger Feldman, Weston, Massachusetts, Court of Federal Claims Number 07-0891V.

303. Elisabeth and Bernard Hil Bowman on behalf of Kaylin Bowman, Dallas, Texas, Court of Federal Claims Number 07-0892V.

304. Tieu Binh Le, Monahans, Texas, Court of Federal Claims Number 07-0895V.

Dated: September 12, 2008.
Elizabeth M. Duke,
Administrator.

[FR Doc. E8-22129 Filed 9-22-08; 8:45 am]

BILLING CODE 4165-15-P